FEDERAL COMMUNICATIONS COMMISSION

Notice of Public Information Collection(s) Being Reviewed by the Federal Communications Commission, Comments Requested

June 28, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 5, 2000. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0895.

Title: Numbering Resources Optimization, CC Docket No. 99-200.

Form No.: FCC Form 502.

Type of Review: Extension.

Respondents: Business or Other for Profit; State, Local or Tribal Government.

Number of Respondents: 2780.

Estimated Time Per Response: 57 Hours (avg.).

Total Annual Burden: 158,500 Hours.

Estimated Annual Reporting and Recordkeeping Cost Burden: $6,490,000.

Frequency of Response: On occasion; Semi-annually; One-time Requirement; Recordkeeping; Third Party Disclosure.

Needs and Uses: The ten digit North American Plan currently being used by the United States and 19 other countries is rapidly being depleted. Management of this resource is impaired by a lack of uniform data. Under the Communications Act of 1934, as amended, the FCC was given “exclusive jurisdiction over those portions of the North American Numbering Plan that pertain to the United States.” Pursuant to that authority the Commission conducted a rulemaking that, among other things, addressed regular reporting on numbering use by United States carriers. In its Report and Order in CC Docket No. 99-200, In the Matter of Numbering Resource Optimization (rel. March 31, 2000), the Commission found that mandatory data collection is necessary to efficiently monitor and manage numbering use. All carriers that receive numbering resources from the North American Numbering Plan Administrator (NANPA) or other receiving numbering resources from a Pooling Administrator in thousands blocks must report forecast and utilization data semi-annually to the NANPA. Applications for initial numbering resources must include documented proof that the applicant is authorized to provide service in the area for which the numbering resources are requested and that the application is or will be capable of providing service within 60 days of the numbering resources activation date. Applications for growth numbering resources must include a Months-To-Exhaust Worksheet. To facilitate auditing by the NANPA and by state commissions in the future, carriers are required to maintain detailed internal records of their number usage. State commission must provide notification to reduce the reporting frequency for NPAs in their states to annual. Carriers that open a clean block prior to utilizing in its entirety a previously-opened thousands-block must make a demonstration to the state commission. States requesting pooling authority must include a showing of specific criteria in their petitions. Carriers are requested to submit cost support data so that the Commission can determine the cost associated with thousands-block number pooling. The data collected will be used by the Commission, state regulatory commissions, and the NANPA to monitor numbering resource utilization by all carriers using the resource and to project the dates of area code and NANP exhaust.

Federal Communications Commission.
Magalie Roman Salas,
Secretary.

[FR Doc. 00-17051 Filed 7-5-00; 8:45 am]

BILLING CODE 6712-01-P